DEPARTMENT OF HOMELAND SECURITY

U.S. Customs and Border Protection

Notice of Availability of Finding of No Significant Impact for Field Release of Insects for Biological Control of Carrizo Cane

AGENCY: U.S. Customs and Border Protection, DHS.

ACTION: Notice of availability.

SUMMARY: U.S. Customs and Border Protection (CBP) is advising the public of the availability of a Finding of No Significant Impact (FONSI) for its support of U.S. Department of Agriculture (USDA) research and field release of two insects, the Arundo scale and the Arundo wasp as biological control agents for the non-native and invasive Carrizo cane in the continental United States. To reach this FONSI, CBP examined two Environmental Assessments (EAs) prepared by USDA's Animal and Plant Health Inspection Service (APHIS), performed independent analyses of those EAs, and reached its own findings. The two EAs (APHIS 2009 and 2010) are also being made available through CBP.

DATES: The FONSI is available beginning on November 18, 2011.

ADDRESSES: Copies of the FONSI may be obtained by accessing either of the following Web sites: http://cbp.gov/xp/cgov/border_security/ti/ti_docs/carrizo_fonsi.xml, or http://www.dhs.gov/xabout/laws/editorial_0850.shtm under Environmental Assessments; or by sending a request to Christopher Colacicco of CBP by telephone: (202) 344-1085; by fax: (202) 344-1250; by email: Christopher.j.colacicco@cbp.dhs.gov; or by writing to: CBP, Attn: Christopher Colacicco, 1300 Pennsylvania Avenue NW., Washington, DC 20229.

FOR FURTHER INFORMATION CONTACT: Christopher Colacicco, CBP, Border Patrol Facilities and Tactical Information Program Management Office, telephone (202) 344-1085, email Christopher.j.colacicco@cbp.dhs.gov.

SUPPLEMENTARY INFORMATION:

Background Information

The non-native invasive weed species, Carrizo cane, Arundo donax (Poaceae), is prevalent along the southern border of the United States and is an impediment to border security. Among other things, it obscures Border Patrol agents' lines of sight and provides cover to individuals who are attempting to enter the United States illegally. Accordingly, effective control of Carrizo cane is critical in preventing terrorists and terrorist weapons, drugs, and other contraband from entering the United States and in providing a safer work environment for Border Patrol agents. CBP has evaluated various methods of controlling Carrizo cane, including the application of herbicides and mechanical removal; however, CBP remains interested in evaluating other methods of controlling Carrizo cane.

ARS Biological Control Research

The USDA Agricultural Research Service (ARS) is conducting research into the use of two insects as biological control agents for Carrizo cane: The Arundo wasp, Tetramesa romana Walker (Hymenoptera: Eurytomidae), and Arundo scale Rhizaspidiotus donacis (Hemiptera: Diaspididae). CBP has recognized the potential utility of biological control agents to help control Carrizo cane. Under the authority of 7 U.S.C. 3318(b), CBP and USDA entered into a non-assistive cooperative agreement in support of research into biological controls for Carrizo cane. In accordance with this agreement, CBP plans to provide funding and other support to ARS through fiscal years 2012 and 2013 for research regarding the release of the Arundo wasp and Arundo scale in the United States and to coordinate deployment of these biological control agents for Carrizo cane. Additional funding or support may be provided after 2013 if funds are available and the biological controls appear effective. The coordination will take the form of agreements regarding the locations where ARS will release the Arundo wasp and Arundo scale and the provision of access to CBP-controlled property for ARS studies. The goal of the program is to determine if biological control is an effective option for reducing Carrizo cane density. Reducing Carrizo cane density is likely to increase visibility along the border, thereby meeting CBP's operational needs.

USDA Environmental Assessments

USDA's Animal and Plant Health Inspection Service (APHIS) completed two Environmental Assessments (EAs) that evaluated the potential environmental impacts related to the release of these two insects as biological control agents for the control of Carrizo cane.

On March 6, 2009, APHIS issued an EA that evaluated a range of alternatives and strategies to ensure protection of the environment associated with the release of the Arundo wasp in the continental United States. The Arundo wasp is a non-stinging wasp that feeds and resides only on Carrizo cane and is known to pose no threat to humans or other animals. A 30 day public comment period was provided, and 10 comments were received. After consideration of the comments, APHIS issued a final EA and a FONSI for the release of the Arundo wasp on April 10, 2009. See 74 FR 21311.

On November 12, 2010, APHIS issued an EA that evaluated a range of alternatives and strategies to ensure protection of the environment associated with the release of Arundo scale in the continental United States. A 30 day public comment period was provided, and 11 comments were received. After consideration of the comments, APHIS issued a final EA and a FONSI for the release of Arundo scale on December 15, 2010. See 76 FR 8708.

These documents are posted on the APHIS Web site at: http://www.aphis.usda.gov/plant_health/ea/downloads/Tetramesa-romana-ea.pdf and http://www.aphis.usda.gov/plant_health/ea/downloads/RhizaspidiotusdonacisEA-Fonsi.pdf. Links to these documents may also be found on the CBP Web site: http://cbp.gov/xp/cgov/border_security/ti/ti_docs/carrizo_fonsi.xml.

Adoption of the APHIS EAs and CBP's Issuance of a FONSI

Following independent analysis and review of the APHIS EAs, CBP has adopted the APHIS EAs regarding the Arundo wasp and Arundo scale. Based on this analysis and review, CBP has determined that the release of the Arundo wasp and Arundo scale in CBP-controlled areas will not have a significant effect on the environment, and thus has issued a FONSI. Copies of the FONSI may be obtained as described in the ADDRESSES section of this document.

NEPA

This environmental analysis was conducted in accordance with the National Environmental Policy Act of 1969 (NEPA), 42 U.S.C. 4321 et seq., the Council on Environmental Quality Regulations for Implementing the NEPA (40 CFR parts 1500-1508), and Department of Homeland Security Directive 023-01 (renumbered from 5100.1), Environmental Planning Program (April 19, 2006).

Dated: November 3, 2011.
Karl H. Calvo,
Executive Director, Facilities Management and Engineering, Office of Administration.

[FR Doc. 2011-29766 Filed 11-17-11; 8:45 am]

BILLING CODE 9111-14-P